DEPARTMENT OF TRANSPORTATION

Federal Aviation Administration

Notice of Opportunity for Public Comment on Surplus Property Release at Brunswick Executive Airport in Brunswick, ME

AGENCY: Federal Aviation Administration (FAA), DOT.

ACTION: Request for Public Comments.

SUMMARY: Under the provisions of Title 49, U.S.C. 47153(d), notice is being given that the FAA is considering a request from Midcoast Regional Redevelopment Authority to waive the surplus property requirements for approximately 3.47 acres of airport property located at Brunswick Executive Airport in Brunswick, ME.

It has been determined through study and master planning that the subject parcel will not be needed for aeronautical purposes and would better serve the airport if used for aviation compatible, non-aeronautical revenue generation. Full and permanent relief of the surplus property requirements on this specific parcel will allow the airport and its tenant on this parcels to enter into a long-term lease and begin making infrastructure improvements. All revenues through the leasing of the parcel will continue to be subject to the FAAs revenue-use policy and dedicated to the maintenance and operation of the Brunswick Executive Airport.

DATES: Comments must be received on or before August 8, 2013.

ADDRESSES: Send comments on this document to Mr. Barry J. Hammer at the Federal Aviation Administration, 12 New England Executive Park, Burlington, Massachusetts 01803, Telephone 781-238-7625.

FOR FURTHER INFORMATION CONTACT: Documents are available for review by appointment by contacting Mr. Marty McMahon, Telephone 207-798-6512 or by contacting Mr. Barry J. Hammer, Federal Aviation Administration, 16 New England Executive Park, Burlington, Massachusetts, Telephone 781-238-7625.

Issued in Burlington, Massachusetts on June 17, 2013.
Mary T. Walsh,
Manager, Airports Division, New England Region.

[FR Doc. 2013-16462 Filed 7-8-13; 8:45 am]

BILLING CODE 4910-13-P